DEPARTMENT OF AGRICULTURE

Submission for OMB Review; Comment Request

November 6, 2018.

The Department of Agriculture has submitted the following information collection requirement(s) to OMB for review and clearance under the Paperwork Reduction Act of 1995, Public Law 104-13. Comments are required regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 10, 2018 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Request for Aerial Photography.

OMB Control Number: 0560-0176.

Summary of Collection: The information collection is needed to enable the Department of Agriculture to effectively administrate the Aerial Photography Program. The Aerial Photography Field Office (APFO) has the responsibility for conducting and coordinating the FSA's aerial photography, remote sensing programs, and the aerial photography flying contract programs. The digital and film imagery secured by Farm Service Agency (FSA) is public domain and reproductions are available at cost to any customer with a need. All receipts from the sale of aerial photography products and services are retained by FSA. The FSA-441, Request for Aerial Photography, is the form FSA supplies to the customers for placing an order for aerial imagery products and services. FSA also collects information using the following two FSA 441B, Customer Digital Print Form, and FSA 441C APFO Service Quality Survey.

Need and Use of the Information: FSA will collect the name, address, contact name, telephone, fax, email, customer code, agency code, purchase order number, credit card number/exp. date and amount remitted/PO amount. Customers have the option of placing orders by mail, fax, telephone, and walk-in. Furnishing this information requires the customer to research and prepare their request before submitting it to APFO. Information collected is used to process fiscal obligations, communicate with the customer, process the request, and ship the requested products.

Description of Respondents: Farms; Individuals or household; Business or other for-profit; Federal Government; State, Local or Tribal Government.

Number of Respondents: 1,465.

Frequency of Responses: Recordkeeping; Reporting; Annually; Other (when ordering).

Total Burden Hours: 433.

Ruth Brown,
Departmental Information Collection Clearance Officer.

[FR Doc. 2018-24529 Filed 11-8-18; 8:45 am]

BILLING CODE 3410-05-P